DEPARTMENT OF HEALTH AND HUMAN SERVICES

National Institutes of Health

National Institute of Dental & Craniofacial Research; Amended Notice of Meeting

Notice is hereby given of a change in the meeting of the NIDCR Special Grants Review Committee, October 17, 2013, 8:00 a.m. to October 18, 2013, 12:00 p.m., NIH Building 60 (The Cloister), 1 Cloister Court (Center Drive and Convent Drive), Bethesda, MD 20814146 which was published in the Federal Register on August 19, 2013, 78 FR 50426.

Meeting date has changed from October 17-18, 2013 to December 9, 2013 from 8:00 a.m. to 6:00 p.m. The meeting is closed to the public.

Dated: October 25, 2013.
David Clary,
Program Analyst, Office of Federal Advisory Committee Policy.

[FR Doc. 2013-25904 Filed 10-30-13; 8:45 am]

BILLING CODE 4140-01-P